DEPARTMENT OF THE INTERIOR

National Park Service

Notice of Inventory Completion: Warren Anatomical Museum, Harvard University, Boston, MA

AGENCY: National Park Service, Interior.

ACTION: Notice.

Notice is here given in accordance with the Native American Graves Protection and Repatriation Act (NAGPRA), 25 U.S.C. 3003, of the completion of an inventory of human remains in the possession and control of the Warren Anatomical Museum, Harvard University, Boston, MA. The human remains were removed from Martha's Vineyard, Dukes County, MA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Peabody Museum of Archaeology and Ethnology and Warren Anatomical Museum professional staff in consultation with representatives of the Mashpee Wampanoag Tribe, Massachusetts; Wampanoag Tribe of Gay Head (Aquinnah) of Massachusetts; and Assonet Band of the Wampanoag Nation, a non-Federally recognized Indian group.

At an unknown date before 1870, human remains representing a minimum of one individual were removed probably from Martha's Vineyard, Dukes County, MA, by an unknown individual. The human remains were donated to the Warren Anatomical Museum on an unknown date before 1870, and are part of the J. Mason Warren Collection. Specimen labels describe the individual as being from “Martha's Vineyard” and “From an Indian burial place/Martha's Vineyard.” No known individual was identified. No associated funerary objects are present.

This burial is described in museum sources as being in an “erect posture.” An extended or erect burial posture is characteristic of post-contact burial practices in the Martha's Vineyard area. Therefore, this interment most likely dates to the Historic/Contact Period (post 500 BP). During this period, the geographic area from which these human remains came is within the area considered to be Wampanoag aboriginal homelands according to historic documentation and Wampanoag NAGPRA representatives. Descendants of the Wampanoag are members of the Mashpee Wampanoag Tribe, Massachusetts; Wampanoag Tribe of Gay Head (Aquinnah) of Massachusetts; and Assonet Band of the Wampanoag Nation, a non-Federally recognized Indian group.

Officials of the Peabody Museum of Archaeology and Ethnology and Warren Anatomical Museum have determined that, pursuant to 25 U.S.C. 3001 (9-10), the human remains described above represent the physical remains of one individual of Native American ancestry. Officials of the Peabody Museum of Archaeology and Ethnology and Warren Anatomical Museum also have determined that, pursuant to 25 U.S.C. 3001 (2), there is a relationship of shared group identity that can be reasonably traced between the Native American human remains and the Mashpee Wampanoag Tribe, Massachusetts; Wampanoag Tribe of Gay Head (Aquinnah) of Massachusetts; and Assonet Band of the Wampanoag Nation, a non-Federally recognized Indian group.

Representatives of any other Indian tribe that believes itself to be culturally affiliated with the human remains should contact Patricia Capone, Repatriation Coordinator, Peabody Museum of Archaeology and Ethnology, Harvard University, 11 Divinity Ave., Cambridge, MA 02138, telephone (617) 496-2047, before October 22, 2009. Repatriation of the human remains to the Wampanoag Confederation representing the Mashpee Wampanoag Tribe, Massachusetts; Wampanoag Tribe of Gay Head (Aquinnah) of Massachusetts; and Assonet Band of the Wampanoag Nation, a non-Federally recognized Indian group, may proceed after that date if no additional claimants come forward.

The Peabody Museum of Archaeology and Ethnology, Harvard University is responsible for notifying the Mashpee Wampanoag Tribe, Massachusetts; Wampanoag Tribe of Gay Head (Aquinnah) of Massachusetts; and Assonet Band of the Wampanoag Nation, a non-Federally recognized Indian group, that this notice has been published.

Dated: September 1, 2009
Sherry Hutt,
Manager, National NAGPRA Program.

[FR Doc. E9-22776 Filed 9-21-09; 8:45 am]

BILLING CODE 4312-50-S